DEPARTMENT OF HOMELAND SECURITY

Coast Guard

33 CFR Part 165

[Docket No. USCG-2024-0568]

Safety Zone; San Francisco Giants Fireworks, San Francisco Bay, San Francisco, CA

AGENCY: Coast Guard, DHS.

ACTION: Notification of enforcement of regulation.

SUMMARY: The Coast Guard will enforce the safety zone for the San Francisco Giants Fireworks in the Captain of the Port San Francisco area of responsibility during the dates and times noted in the SUPPLEMENTARY INFORMATION section. This action is necessary to protect personnel, vessels, and the marine environment from the hazards associate with the fireworks display. During the enforcement period unauthorized persons and vessels are prohibited from entering into, transiting through, or remaining in the safety zone unless authorized by the patrol Commander (PATCOM), or any Official Patrol defined as other law enforcement agencies on scene.

DATES: The regulations in 33 CFR 165.1191 will be enforced for the location identified in Table 1 to § 165.1191, Item number 1, from 11:30 a.m. until 10:40 p.m. on June 28, 2024.

FOR FURTHER INFORMATION CONTACT: If you have questions about this notification of enforcement, call or email Lieutenant William Harris, U.S. Coast Guard Sector San Francisco, Waterways Management Division; telephone (415) 399-7443, email SFWaterways@uscg.mil.

SUPPLEMENTARY INFORMATION: The Coast Guard will enforce regulations in 33 CFR 165.1191 for the safety zone in 33 CFR 165.1191 Table 1, Item number 1 for the San Francisco Giants Fireworks from 11:30 a.m. until 10:40 p.m. on June 28, 2024. The safety zone will extend to all navigable waters of the San Francisco Bay, from surface to bottom, within a circle formed by connecting all points 100 feet outwards of the fireworks barge during the loading, transit, and arrival from the loading location to the display location and until the start of the fireworks display. From 11:30 a.m. until 9 p.m. on June 28, 2024, the fireworks barge will be loading pyrotechnics from Pier 68 in San Francisco, CA. The fireworks barge will remain at the loading location until its transit to the display location. From 9 p.m. to 9:30 p.m. on June 28, 2024, the loaded fireworks barge will transit from Pier 68 to the launch site near Pier 48 in approximate position 37°46′36″ N, 122°22′56″ W (NAD 83) where it will remain until the conclusion of the fireworks display. Upon commencement of the 10-minute fireworks display, scheduled to begin at the conclusion of the baseball game, between 9:40 p.m. and 10 p.m. on June 28, 2024, the safety zone will increase in size and encompass all navigable waters of the San Francisco Bay, from surface to bottom, within a circle formed by connecting all points 700 feet out from the fireworks barge near Pier 48 in approximate position 37°46′36″ N, 122°22′56″ W (NAD 83). This safety zone will be enforced from 11:30 a.m. until 10:40 p.m. on June 28, 2024, unless the COTP announces a shorter enforcement period via Marine Information Broadcast.

Under the provisions of 33 CFR 165.1191, unauthorized persons or vessels are prohibited from entering into, transiting through, or anchoring in the safety zone during all applicable effective dates and times, unless authorized to do so by the PATCOM or other Official Patrol, defined as a Federal, State, or local law enforcement agency on scene to assist the Coast Guard in enforcing the safety zone. During the enforcement period, if you are the operator of a vessel in one of the safety zones you must comply with the direction from the PATCOM or other Official Patrol. The PATCOM or Official Patrol may, upon request, allow the transit of commercial vessels through regulated areas when it is safe to do so.

In addition to this notice of enforcement in the Federal Register, the Coast Guard plans to provide notification of this enforcement period via the Local Notice to Mariners.

Dated: June 25, 2024.
Jordan M. Baldueza,
Captain, U.S. Coast Guard, Captain of the Port San Francisco.

[FR Doc. 2024-14356 Filed 6-27-24; 8:45 am]

BILLING CODE 9110-04-P